DEPARTMENT OF AGRICULTURE

National Agricultural Statistics Service

Notice of Intent To Seek Approval To Revise and Extend an Information Collection; Correction.

AGENCY: National Agricultural Statistics Service, USDA.

ACTION: Notice and request for comments; correction.

SUMMARY: The National Agricultural Statistics Service published a notice in the Federal Register of May 5, 2005, concerning request for comments on the revision and extension of the Mink Survey. The document contained an incorrect date.

FOR FURTHER INFORMATION CONTACT: Carol House, Associate Administrator, National Agricultural Statistics Service, U.S. Department of Agriculture, (202) 720-4333.

Correction

In the Federal Register of May 5, 2005, in FR Doc. 05-8981, on page 23840, correct the DATES caption to read:

DATES: Comments on this notice must be received by July 5, 2005, to be assured of consideration.

Signed at Washington, DC, May 31, 2005.
Carol House,
Associate Administrator.

[FR Doc. 05-11133 Filed 6-3-05; 8:45 am]

BILLING CODE 3410-20-P